DEPARTMENT OF LABOR

Employment and Training Administration

[TA-W-61,769]

Renfro Corporation, Hot Sox Warehouse, Secaucus, NJ; Notice of Revised Determination on Reconsideration

By letter dated September 6, 2007, a company official requested administrative reconsideration by the U.S. Department of Labor (the Department) of the Negative Determination Regarding Eligibility to Apply for Worker Adjustment Assistance and Alternative Trade Adjustment Assistance, applicable to workers and former workers of Renfro Corporation, Hot Sox Warehouse, Secaucus, New Jersey (the subject firm). The Department's determination was issued on August 8, 2007. The Department's Notice of determination was published in the Federal Register on August 27, 2007 (72 FR 49024).

The negative determination was based on the Department's findings that the subject workers, who are engaged in the packaging and distribution of socks produced abroad, are not engaged in employment related to the production of an article within the meaning of Section 222(a)(2) of the Trade Act of 1974 (the Act) and do not support a firm or appropriate subdivision that produces an article domestically. The Department concluded that the workers cannot be considered import impacted or affected by a shift in production of an article.

In the request for reconsideration, the company official provided additional information that showed that the subject workers are engaged in activity related to the production of packaged socks.

During the reconsideration investigation, the Department confirmed that the subject firm ceased operations and obtained new information that increased imports of articles like or directly competitive with the packaged socks produced by the subject workers contributed importantly to workers' separations.

In accordance with Section 246 the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the additional facts obtained on reconsideration, I conclude that increased imports of articles like or directly competitive with those produced at Renfro Corporation, Hot Sox Warehouse, Secaucus, New Jersey, contributed importantly to the declines in sales or production and to the total or partial separation of workers at the subject firm. In accordance with the provisions of the Act, I make the following certification:

All workers of Renfro Corporation, Hot Sox Warehouse, Secaucus, New Jersey, who became totally or partially separated from employment on or after June 28, 2006, through two years from the date of this certification, are eligible to apply for adjustment assistance under Section 223 of the Trade Act of 1974, and are eligible to apply for alternative trade adjustment assistance under Section 246 of the Trade Act of 1974.

Signed at Washington, DC this 24th day of October 2007.
Elliott S. Kushner,
Certifying Officer, Division of Trade Adjustment Assistance.

[FR Doc. E7-21746 Filed 11-5-07; 8:45 am]

BILLING CODE 4510-FN-P